TENNESSEE VALLEY AUTHORITY

Meeting of the Regional Energy Resource Council

AGENCY: Tennessee Valley Authority (TVA)

ACTION: Notice of meeting.

SUMMARY: The TVA Regional Energy Resource Council (RERC) will hold a meeting on Tuesday, May 24 and Wednesday, May 25, 2016, regarding regional energy related issues in the Tennessee Valley.

The RERC was established to advise TVA on its energy resource activities and the priorities among competing objectives and values. Notice of this meeting is given under the Federal Advisory Committee Act (FACA), 5 U.S.C. App.2.

The meeting agenda includes the following:

1. Welcome and Introductions

2. TVA Updates

3. Presentations regarding Distributed Energy Resources, including current approaches, new technologies, and the Evolving Market Place

4. Public Comments

5. Council discussion

The RERC will hear views of citizens by providing a public comment session starting at 9:00 a.m. EDT, on Wednesday, May 25. The public comment session may last up to one hour. Persons wishing to speak are requested to register at the door by 8:45 a.m. on Wednesday, May 25, and will be called on during the public comment period. Handout materials should be limited to one printed page. Written comments are also invited and may be mailed to the Regional Energy Resource Council, Tennessee Valley Authority, 400 West Summit Hill Drive, WT-9D, Knoxville TN 37902.

DATES: The meeting will be held on Tuesday, May 24, from 10:00 a.m. to 11:45 a.m. and on Wednesday, May 25, from 8:30 a.m. to noon EDT.

ADDRESSES: The meeting will be held at the Chattanoogan Hotel, 1201 South Broad Street, Chattanooga, Tennessee 37402, and will be open to the public. Anyone needing special access or accommodations should let the contact below know at least a week in advance.

FOR FURTHER INFORMATION CONTACT: Beth Keel, 400 West Summit Hill Drive, WT-9D, Knoxville, Tennessee 37902, (865) 632-6113.

Dated: May 2, 2016.
Joseph J. Hoagland,
Vice President, Enterprise Relations and Innovation, Tennessee Valley Authority.

[FR Doc. 2016-10723 Filed 5-6-16; 8:45 am]

BILLING CODE 8120-08-P